DEPARTMENT OF HOUSING AND URBAN DEVELOPMENT

[Docket No. FR-4900-C-02]

Notice of HUD's Fiscal Year (FY) 2004, Notice of Funding Availability (NOFA), Policy Requirements and General Section to FY2004 SuperNOFA for HUD's Discretionary Grant Programs; Correction

AGENCY: Office of the Secretary, HUD.

ACTION: Super Notice of Funding Availability (SuperNOFA) for HUD Discretionary Grant Programs; correction.

SUMMARY: On May 14, 2004, HUD published its Fiscal Year (FY) 2004, Notice of Funding Availability (NOFA), Policy Requirements and General Section to the SuperNOFA for HUD's Discretionary Grant Programs. This document corrects the reference to a form that was misidentified in the Housing Choice Voucher Family Self-Sufficiency Program Coordinators program section of the SuperNOFA. This document also substitutes the form that follows the Housing Opportunities for Persons with AIDS (HOPWA) program section of the SuperNOFA with a revised form that has been approved by OMB.

DATES: All application due dates remain as published in the Federal Register on May 14, 2004.

FOR FURTHER INFORMATION CONTACT: Barbara Dorf, Director, Office of Departmental Grants Management and Oversight, Office of Administration, Room 2182, Department of Housing and Urban Development, 451 Seventh Street, SW., Washington, DC 20410. Telephone (202) 708-0667 (this is not a toll-free number). Hearing or speech impaired persons may access this number by calling the Federal Information Relay Service at 1-800-877-8339 (this is a toll-free number).

SUPPLEMENTARY INFORMATION: On May 14, 2004 (69 FR 26941), HUD published its Notice of HUD's Fiscal Year (FY) 2004, Notice of Funding Availability (NOFA), Policy Requirements and General Section to the SuperNOFA for HUD's Discretionary Grant Programs. The FY2004 SuperNOFA announced the availability of approximately $2.3 billion in HUD assistance administered by HUD offices.

This notice published in today's Federal Register makes a technical correction with respect to a form referenced in the Housing Choice Voucher Family Self-Sufficiency Program Coordinators program section of the SuperNOFA that was misidentified as the “HUD-424.” The correct reference is “SF-424.”

This notice published in today's Federal Register also makes a technical correction with respect to the form that follows the HOPWA program. Specifically, this notice removes from Appendix A of the HOPWA section of the SuperNOFA the form entitled, “HOPWA Renewal of Permanent Supportive Housing Grants” (HUD-40110-B) (04/2004). The information collection authority for this form has expired and the form was inadvertently included in the SuperNOFA. In place of the expired form, this notice also substitutes the form entitled, “HOPWA Renewal of Permanent Supportive Housing Grants Form 2004” (HUD-40110-B) (04/30/2007). A copy of the approved form follows.

Correction

Housing Choice Voucher Family Self-Sufficiency Program Coordinators Program Section of the SuperNOFA, Beginning at 69 FR 27393

On page 27398, right hand column, paragraph B1 entitled, “Content of Application,” the fourth sentence is corrected to read, “Both new and renewal PHA applicants should enter the proposed ACC amendment effective and ending dates for the FSS coordinator funding in section 13 of the SF-424.”

Housing Opportunities for Persons With AIDS Section of SuperNOFA, Beginning at 69 FR 27631

On page 27643, HUD removes from Appendix A of the HOPWA section of the SuperNOFA the form entitled, “HOPWA Renewal of Permanent Supportive Housing Grants” (HUD-40110-B) (04/2004).

At page 27643, Appendix A of the HOPWA section of the SuperNOFA is amended by adding the form entitled, “HOPWA Renewal of Permanent Supportive Housing Grants Forms 2004 (HUD-40110-B) (04/30/2007),” a copy of which follows.

Dated: May 19, 2004.
Vickers B. Meadows,
Assistant Secretary for Administration/Chief Information Officer.

BILLING CODE 4210-32-P

[FR Doc. 04-12087 Filed 5-27-04; 8:45 am]

BILLING CODE 4210-32-C